DEPARTMENT OF STATE

[Public Notice 3820]

Culturally Significant Objects Imported for Exhibition Determinations: “The Emergence of Jewish Artists in Nineteenth Century Europe”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681 et seq.), Delegation of Authority No. 234 of October 1, 1999 (64 FR 56014), and Delegation of Authority No. 236 of October 19, 1999 (64 FR 57920), as amended, I hereby determine that the objects to be included in the exhibit “The Emergence of Jewish Artists in Nineteenth Century Europe,” imported from abroad for the temporary exhibition without profit within the United States, are of cultural significance. These objects are imported pursuant to loan agreements with foreign lenders. I also determine that the temporary exhibition or display of the exhibit objects at The Jewish Museum, of New York, NY, from on or about November 18, 2001, to on or about March 17, 2002, is in the national interest. Public Notice of these determinations is ordered to be published in the Federal Register.

FOR FURTHER INFORMATION CONTACT: For further information, including a list of exhibit objects, contact Julianne Simpson, Attorney-Adviser, Office of the Legal Adviser, U.S. Department of State (telephone: 202/619-6529). The address is U.S. Department of State, SA-44, 301 4th Street, SW., Room 700, Washington, DC 20547-0001.

Dated: October 11, 2001.
Patricia S. Harrison,
Assistant Secretary for Educational and Cultural Affairs, U.S. Department of State.

[FR Doc. 01-26398 Filed 10-18-01; 8:45 am]

BILLING CODE 4710-08-P